FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Federal Reserve Membership Applications and the Federal Reserve Bank Stock Applications (FR 2030, FR 2030a, FR 2056, FR 2086, FR 2086a, FR 2087, FR 2083, FR 2083A, FR 2083B, and FR 2083C; OMB Nos. 7100-0042 and 7100-0046).

DATES: Comments must be submitted on or before August 5, 2019.

ADDRESSES: You may submit comments, identified by FR 2030, FR 2030a, FR 2056, FR 2086, FR 2086a, FR 2087, FR 2083, FR 2083A, FR 2083B, or FR 2083C, by any of the following methods:

• Agency Website: http://www.federalreserve.gov. Follow the instructions for submitting comments at http://www.federalreserve.gov/apps/foia/proposedregs.aspx.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available on the Board's website at http://www.federalreserve.gov/apps/foia/proposedregs.aspx as submitted, unless modified for technical reasons. Accordingly, your comments will not be edited to remove any identifying or contact information. Public comments may also be viewed electronically or in paper form in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the OMB Desk Officer—Shagufta Ahmed—Office of Information and Regulatory Affairs, Office of Management and Budget, New Executive Office Building, Room 10235, 725 17th Street NW, Washington, DC 20503, or by fax to (202) 395-6974.

FOR FURTHER INFORMATION CONTACT: A copy of the PRA OMB submission, including the proposed reporting form and instructions, supporting statement, and other documentation will be placed into OMB's public docket files, if approved. These documents will also be made available on the Board's public website at http://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

SUPPLEMENTARY INFORMATION: On June 15, 1984, the Office of Management and Budget (OMB) delegated to the Board authority under the Paperwork Reduction Act (PRA) to approve and assign OMB control numbers to collection of information requests and requirements conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collections

Report titles: Federal Reserve Bank Stock Applications.

Agency form numbers: FR 2030; FR 2030a; FR 2056; FR 2086; FR 2086a; FR 2087.

OMB control number: 7100-0042.

Frequency: On occasion.

Respondents: New national banks, non-member state banks converting into national banks, member banks, and member banks converting into or merging into member or nonmember banks.

Estimated number of respondents: FR 2030, 4; FR 2030a, 7; FR 2056, 1,068; FR 2086, 10; FR 2086a, 86; FR 2087, 1.

Estimated average hours per response: 0.5.

Estimated annual burden hours: FR 2030, 2; FR 2030a, 3.5; FR 2056, 534; FR 2086, 5; FR 2086a, 43; FR 2087, 0.5.

General description of report: Any national bank wanting to purchase stock in the Federal Reserve System, any member bank wanting to increase or decrease its Federal Reserve Bank stock holdings, or any bank wanting to cancel its stock holdings must file an application with the appropriate Federal Reserve Bank. The application forms for the initial subscription of Federal Reserve Bank stock filed by organizing national banks and nonmember state banks converting to national banks (FR 2030 and 2030a, respectively) and the application forms for the cancellation of Federal Reserve Bank stock filed by liquidating member banks, member banks merging or consolidating with nonmember banks, and insolvent member banks (FR 2086, FR 2086a, and FR 2087, respectively) require one or more of the following: A resolution by the applying bank's board of directors authorizing the transaction, an indication of the capital and surplus of the bank as of the date of application, a certification (by official signatures) of the resolution, and/or an indication of the number of shares and dollar amount of the Federal Reserve Bank stock to be purchased or cancelled.

The application form for an interim adjustment in a member bank's holdings of Federal Reserve Bank stock (FR 2056) requires an indication of the capital and surplus of the bank as of the date of application and an indication of the number of shares held and the number of shares to be acquired or canceled.

A completed application form must be submitted for each required adjustment. Any member bank must use the FR 2056 to correct a discrepancy between the amount of Federal Reserve Bank stock required to be held and the amount actually held by the member bank. The latter is determined by the Reserve Bank through its monitoring of the bank's capital accounts reported quarterly on the Consolidated Reports of Condition and Income (Call Report) (FFIEC 031, FFIEC 041, and FFIEC 051; OMB No. 7100-0036). The Federal Reserve Bank stock applications are distributed by the Federal Reserve Banks and the information collected enables them to account for required subscription, adjustment, or cancellation payments to and from the System and for dividends paid by the System on any outstanding stock.

Report title: Federal Reserve Membership Application.

Agency form number: FR 2083/A/B/C.

OMB control number: 7100-0046.

Frequency: On occasion.

Respondents: Member banks converting into or merging into member or non-member banks.

Estimated number of respondents: 16.

Estimated average hours per response: 4.

Estimated annual burden hours: 64.

General description of report: The four individual application forms in the FR 2083 series (membership application and relevant attachments) are all one-time submissions that are used by organizing (new) or existing state-chartered banks to apply for membership in the Federal Reserve System. The FR 2083 contains a cover sheet, with general information and instructions detailing the information to be submitted according to the type of applicant bank. The FR 2083A is the application form for the purchase of Federal Reserve Bank stock by state banks (except mutual savings banks) and by national banks converting into state member banks. The FR 2083B is the application form for the purchase of Federal Reserve Bank stock by mutual savings banks. The FR 2083C is the Certificate of Organizers or Directors certifying that the information being submitted is true and complete, and the proposed capital is not impaired.

Proposed revisions: The Board is proposing to revise the FR 2030, FR 2030a, FR 2056, FR 2083A, FR 2083B, FR 2086, FR 2086A, FR 2087 with the following updates: (1) Require the bank to include their American Bankers Association (ABA) number on page one (FR 2030, FR 2030A, FR 2056, FR 2083A, and FR 2083B); (2) include the Chief Financial Officer (CFO) as an authorized signer (FR 2030, FR 2030A, FR 2056, FR 2083A, FR 2083B, FR 2086, and FR 2086A); (3) remove the SEAL and/or notarization requirement to allow for electronic retention of documentation (FR 2030, FR 2030A, FR 2056, FR 2083A, FR 2083B, and FR 2087); (4) include a note requiring that the signer of the form be included on the bank's Official Authorization List that is on file with the Federal Reserve (FR 2030, 2030A, FR 2056, 2083A, FR 2083B, and FR 2086A); (5) collect an additional data point “Less: retained earnings and accumulated other comprehensive income if such combined amount is negative” on page one (FR 2030, FR 2030a, similar to the FR 2056); (6) on page one of FR 2056: (a) Place a box around the area where member banks enter their Common stock, Paid-in surplus and NRE figures (if applicable) and place a bolded “Member banks” identifier at top left, (b) place member bank and mutual savings bank calculations separated from each other in order to alleviate each type of institution from using both areas, and (c) insert the statement to, “round up only” to footnote 3. The Board is not proposing any revision to the FR 2083 and FR 2083C forms as part of this process.

Legal authorization and confidentiality: The Federal Reserve Membership Application is authorized by Section 9 of the Federal Reserve Act (FRA) (12 U.S.C. 321, 322, 323, 329, and 333). The Federal Reserve Bank Stock Applications are authorized pursuant to Sections 9 (12 U.S.C. 321) and 11(a) of the FRA (12 U.S.C. 248(a)). Additionally, the FR 2030 and FR 2030a are specifically authorized by Section 2 of the FRA (12 U.S.C. 222 and 282); the FR 2056, FR 2086, and FR 2086a are authorized by Section 5 of the FRA (12 U.S.C. 287); and the FR 2087 is authorized by Section 6 of the FRA (12 U.S.C. 288).

The FR 2083 is required to obtain a benefit, while the FR 2030, FR 2030a, FR 2056, FR 2086, FR 2086a, and FR 2087 are mandatory. Individual respondents may request that information submitted to the Board in these applications be kept confidential on a case-by-case basis. Such applications may contain information related the business plans of the respondent. Under certain circumstances, this information may be withheld under exemption 4 of the Freedom of Information Act (FOIA), which protects privileged or confidential commercial or financial information (5 U.S.C. 552(b)(4)). These applications may also contain information of a personal nature the disclosure of which would result in a clearly unwarranted invasion of personal privacy, which may be protected under exemption 6 of the FOIA (5 U.S.C. 552(b)(6)). Additionally, exemption 8 of the FOIA (5 U.S.C. 552(b)(8)) may apply to the extent the reported information is contained in or related to examination reports.

Board of Governors of the Federal Reserve System, May 31, 2019.
Michele Taylor Fennell,
Assistant Secretary of the Board.

[FR Doc. 2019-11795 Filed 6-5-19; 8:45 am]

BILLING CODE 6210-01-P